DEPARTMENT OF HOMELAND SECURITY

Coast Guard

33 CFR Part 117

[Docket No. USCG-2012-0719]

Drawbridge Operation Regulation; Inner Harbor Navigational Canal, New Orleans, LA

AGENCY: Coast Guard, DHS.

ACTION: Notice of temporary deviation from regulations.

SUMMARY: The Coast Guard has issued a temporary deviation from the operating schedule that governs the US 90 (Danzinger) Bridge across the Inner Harbor Navigational Canal, mile 3.1, at New Orleans, LA. The deviation is necessary to replace the wire rope lifting cables, and for the rehabilitation of most electrical motors and components, most mechanical components and the operator house. This deviation allows the bridge to remain closed to navigation for 48 consecutive hours in late August and for 30 consecutive days in September and October.

DATES: This deviation is effective from 6 p.m. on Monday, August 27, 2012 until 11:59 p.m. on Saturday, October 6, 2012.

ADDRESSES: Documents mentioned in this preamble as being available in the docket are part of docket USCG-2012-0719 and are available online by going to http://www.regulations.gov, inserting USCG-2012-0719 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David Frank, Bridge Administration Branch, Coast Guard; telephone 504-671-2128, email David.M.Frank@uscg.mil. If you have questions on viewing the docket, call Renee V. Wright, Program Manager, Docket Operations, telephone 202-366-9826.

SUPPLEMENTARY INFORMATION: The Louisiana Department of Transportation and Development has requested a temporary deviation from the operating schedule of the US 90 (Danzinger) Bridge across the Inner Harbor Navigational Canal, mile 3.1, at New Orleans, LA. The vertical clearance of the bridge in the closed-to-navigation position is 50 feet above Mean High Water, elevation 5.0 feet Mean Sea Level.

In accordance with 33 CFR 117.458(b), the draw of the US90 (Danzinger) Bridge, mile 3.1, shall open on signal, except that, from 8 p.m. to 7 a.m. the draw shall open on signal if at least four hours notice is given, and the draw need not be opened from 7 a.m. to 8:30 a.m. and 5 p.m. to 6:30 p.m. Monday through Friday. This deviation allows the bridge to remain closed to navigation for 48 consecutive hours from 6 p.m. on Monday, August 27, 2012 until 6 p.m. on Wednesday, August 29, 2012 and for 30 consecutive days from 12:01 a.m. on Friday, September 7, 2012 until 11:59 p.m. on Saturday, October 6, 2012.

The closure is necessary to replace the wire rope lifting cables, and for the rehabilitation of most electrical motors and components, most mechanical components and the operator house. This maintenance is essential for the continued operation of the bridge. Notices will be published in the Eighth Coast Guard District Local Notice to Mariners and will be broadcast via the Coast Guard Broadcast Notice to Mariners System.

Navigation on the waterway consists of commercial and recreational vessels and sailboats and small tugs with and without tows. An alternate route is available via the Rigolets or Chef Menteur Pass. Vessels with vertical clearance requirements of less than 50 feet above Mean High Water may pass under the bridge while in the closed-to-navigation position.

Due to prior experience and coordination with waterway users, it has been determined that this closure will not have a significant effect on vessels that use the waterway.

In accordance with 33 CFR 117.35(e), the drawbridge must return to its regular operating schedule immediately at the end of the designated time period. This deviation from the operating regulations is authorized under 33 CFR 117.35.

Dated: July 24, 2012.
David M. Frank,
Bridge Administrator.

[FR Doc. 2012-18992 Filed 8-2-12; 8:45 am]

BILLING CODE 9110-04-P